DEPARTMENT OF HOMELAND SECURITY

Coast Guard

[Docket Number USCG-2020-0093]

Port Access Route Study: Seacoast of North Carolina Including Approaches to the Cape Fear River and Beaufort Inlet, North Carolina

AGENCY: Coast Guard, DHS.

ACTION: Notice of availability, final report.

SUMMARY: The Coast Guard announces the completion of the Port Access Route Study for the Seacoast of North Carolina including approaches to the Cape Fear River and Beaufort Inlet, North Carolina. The study examined existing shipping routes and waterway uses, to include the potential for offshore energy development, in the study area to evaluate the need for establishing or changing existing vessel routing measures. This notice summarizes the study's recommendations.

FOR FURTHER INFORMATION CONTACT: If you have questions about this notice or study, call or email Mr. Matthew Creelman, Waterways Section Chief at Fifth Coast Guard District, telephone (757) 398-6230, email Matthew.K.Creelman2@uscg.mil.

SUPPLEMENTARY INFORMATION:

I. Table of Abbreviations

ACPARS Atlantic Coast Ports Access Route Study

BOEM Bureau of Ocean Energy Management

DHS Department of Homeland Security

FR Federal Register

IMO International Maritime Organization

NEPA National Environmental Policy Act

OREI Offshore Renewable Energy Installation

PARS Port Access Route Study

SAR Search and Rescue

USCG United States Coast Guard

II. Background and Purpose

We conducted this Port Access Route Study (PARS) following a Notice of Study, published in the Federal Register on March 18, 2020. There was a 60-day public comment period, as well as other outreach efforts identified in Section C of the study. During the comment period the USCG received 2 discrete comments in response to the notice.

On March 24, 2022, the Notice of Availability of the draft study was published in the Federal Register (87 FR 16758) with a 30-day public comment period and a request for public comment.

During the 30-day public comment period, the USCG received 2 comments in response to the draft study.

All comments and supporting documents are available in the public docket and can be viewed at https://www.regulations.gov. To view documents, in the “Search” box insert “USCG-2020-0093” and click “Search”.

III. Study Recommendations

The recommendations of this PARS are based on the data analysis for historical vessel traffic patterns, comments received to the docket, public outreach, and consultation with other government agencies and stakeholders. Recommendations in the study include:

1. Submit a proposal to the IMO to create a precautionary area offshore from the entrance to the Cape Fear River at the terminus of the Traffic Separation Scheme.

2. Establish two Cape Fear Approach Connector Fairways aligned to the Southeast and the Southwest of the proposed precautionary area.

3. Establish the Beaufort Inlet Connector Fairway

IV. Summary of Changes

No changes were recommended.

V. Future Actions

The USCG will continue to serve as a NEPA cooperating agency to the Bureau of Ocean Energy Management's (BOEM) environmental review of each proposed OREI project. In that role, the USCG will evaluate the navigational safety risks of each proposal on a case-by-case basis.

The final study will be submitted to the Coast Guard's Office of Navigation Systems (CG-NAV-2) for consideration and to inform the Coast Guard's ongoing efforts to establish shipping safety fairways along the Atlantic Coast, which can be found at 85 FR 37034.

The final study is available for viewing and download from the Federal Register docket at http://www.regulations.gov or the USCG Navigation Center website at https://www.navcen.uscg.gov/?pageName=PARSReports.

Dated: May 3, 2022.
Laura M. Dickey,
Rear Admiral, U.S. Coast Guard, Commander, Fifth Coast Guard District.

[FR Doc. 2022-10457 Filed 5-13-22; 8:45 am]

BILLING CODE 9110-04-P